DEPARTMENT OF THE INTERIOR

Environmental Statements; Notice of Intent; Castillo de San Marcos National Monument, FL

AGENCY: National Park Service, Interior.

ACTION: Notice of intent to prepare a Draft Environmental Impact Statement for the General Management Plan for Castillo de San Marcos National Monument, St. Augustine, Florida.

SUMMARY: The National Park Service will prepare an Environmental Impact Statement on the General Management Plan for Castillo de San Marcos National Monument. The statement will assess potential environmental impacts associated with various types and levels of visitor use and resources management within the National Monument. This General Management Plan and Environmental Impact Statement are being prepared in response to the requirements of the National Parks and Recreation Act of 1978, Public Law 95-625, and in accord with Director's Order Number 2, the planning guidance for National Park Service units that became effective May 27, 1998. The National Park Service will conduct public scoping meetings in the local area to receive input from interested parties on issues, concerns, and suggestions pertinent to the management of Castillo de San Marcos. Suggestions and ideas for managing the cultural and natural resources and visitor experiences at Castillo de San Marcos are encouraged. The comment period for each of these meetings will be announced at the meetings and will be published on the Castillo de San Marcos General Management Plan web site at http://www.nps.gov/casa.

DATES: Locations, dates, and times of public scoping meetings will be published in local newspapers and may also be obtained by contacting the National Park Service Southeast Regional Office, Division of Planning and Compliance. This information will also be published on the General Management Plan web site for Castillo de San Marcos.

ADDRESSES: Scoping suggestions should be submitted to the following address to ensure adequate consideration by the Service: Superintendent, Castillo de San Marcos National Monument, 1 South Castillo Drive, St. Augustine, Florida, 32084. Telephone 904-829-6506, ext. 221.

FOR FURTHER INFORMATION CONTACT: Superintendent, Castillo de San Marcos National Monument, 1 South Castillo Drive, St. Augustine, Florida, 32084. Telephone 904-829-6506, ext. 221.

SUPPLEMENTARY INFORMATION: The Draft and Final General Management Plan Amendment and Environmental Impact Statement will be made available to all known interested parties and appropriate agencies. Full public participation by federal, state, and local agencies as well as other concerned organizations and private citizens is invited throughout the preparation process of this document.

Due to public disclosure requirements, the National Park Service, if requested, is required to make the names and addresses of those who submit written comments public. Anonymous comments will not be considered. However, individual respondents may request that we withhold their names and addresses from the public record. If you wish to withhold your name and/or address, you must state that request prominently at the beginning of your comment. We will make all submissions from organizations or businesses, and from individuals identifying themselves as representatives or officials of organizations or businesses, available for public inspection in their entirety.

The responsible official for the Environmental Impact Statement is Jerry Belson, Regional Director, Southeast Region, National Park Service, 100 Alabama Street SW, 1924 Building, Atlanta, Georgia 30303.

Dated: August 6, 2001.
W. Thomas Brown,
Acting Regional Director, Southeast Region.

[FR Doc. 01-25141 Filed 10-5-01; 8:45 am]

BILLING CODE 4310-70-M